DEPARTMENT OF THE TREASURY

Alcohol and Tobacco Tax and Trade Bureau

27 CFR Part 9

[Docket No. TTB-2020-0009; T.D. TTB-177; Ref: Notice No. 194]

RIN 1513-AC59

Establishment of the San Luis Obispo Coast (SLO Coast) Viticultural Area

AGENCY: Alcohol and Tobacco Tax and Trade Bureau, Treasury.

ACTION: Final rule; Treasury decision.

SUMMARY: The Alcohol and Tobacco Tax and Trade Bureau (TTB) establishes the approximately 408,505-acre “San Luis Obispo Coast” viticultural area in San Luis Obispo County, California. TTB is also recognizing the abbreviated “SLO Coast” as the name of the AVA. The viticultural area is located entirely within the existing Central Coast viticultural area and encompasses the established Edna Valley and Arroyo Grande Valley AVAs. TTB designates viticultural areas to allow vintners to better describe the origin of their wines and to allow consumers to better identify wines they may purchase.

DATES: This final rule is effective April 8, 2022.

FOR FURTHER INFORMATION CONTACT: Karen A. Thornton, Regulations and Rulings Division, Alcohol and Tobacco Tax and Trade Bureau, 1310 G Street NW, Box 12, Washington, DC 20005; phone 202-453-1039, ext. 175.

SUPPLEMENTARY INFORMATION:

Background on Viticultural Areas

TTB Authority

Section 105(e) of the Federal Alcohol Administration Act (FAA Act), 27 U.S.C. 205(e), authorizes the Secretary of the Treasury to prescribe regulations for the labeling of wine, distilled spirits, and malt beverages. The FAA Act provides that these regulations should, among other things, prohibit consumer deception and the use of misleading statements on labels and ensure that labels provide the consumer with adequate information as to the identity and quality of the product. The Alcohol and Tobacco Tax and Trade Bureau (TTB) administers the FAA Act pursuant to section 1111(d) of the Homeland Security Act of 2002, codified at 6 U.S.C. 531(d). The Secretary has delegated the functions and duties in the administration and enforcement of these provisions to the TTB Administrator through Treasury Order 120-01, dated December 10, 2013 (superseding Treasury Order 120-01, dated January 24, 2003).

Part 4 of the TTB regulations (27 CFR part 4) authorizes TTB to establish definitive viticultural areas and regulate the use of their names as appellations of origin on wine labels and in wine advertisements. Part 9 of the TTB regulations (27 CFR part 9) sets forth standards for the preparation and submission to TTB of petitions for the establishment or modification of American viticultural areas (AVAs) and lists the approved AVAs.

Definition

Section 4.25(e)(1)(i) of the TTB regulations (27 CFR 4.25(e)(1)(i)) defines a viticultural area for American wine as a delimited grape-growing region having distinguishing features, as described in part 9 of the regulations, and a name and a delineated boundary, as established in part 9 of the regulations. These designations allow vintners and consumers to attribute a given quality, reputation, or other characteristic of a wine made from grapes grown in an area to the wine's geographic origin. The establishment of AVAs allows vintners to describe more accurately the origin of their wines to consumers and helps consumers to identify wines they may purchase. Establishment of an AVA is neither an approval nor an endorsement by TTB of the wine produced in that area.

Requirements

Section 4.25(e)(2) of the TTB regulations (27 CFR 4.25(e)(2)) outlines the procedure for proposing an AVA and allows any interested party to petition TTB to establish a grape-growing region as an AVA. Section 9.12 of the TTB regulations (27 CFR 9.12) prescribes standards for petitions for the establishment or modification of AVAs. Petitions to establish an AVA must include the following:

• Evidence that the area within the proposed AVA boundary is nationally or locally known by the AVA name specified in the petition;

• An explanation of the basis for defining the boundary of the proposed AVA;

• A narrative description of the features of the proposed AVA affecting viticulture, such as climate, geology, soils, physical features, and elevation, that make the proposed AVA distinctive and distinguish it from adjacent areas outside the proposed AVA boundary;

• If the proposed AVA is to be established within, or overlapping, an existing AVA, an explanation that both identifies the attributes of the proposed AVA that are consistent with the existing AVA and explains how the proposed AVA is sufficiently distinct from the existing AVA and therefore appropriate for separate recognition;

• The appropriate United States Geological Survey (USGS) map(s) showing the location of the proposed AVA, with the boundary of the proposed AVA clearly drawn thereon; and

• A detailed narrative description of the proposed AVA boundary based on USGS map markings.

San Luis Obispo Coast (SLO Coast) AVA Petition

TTB received a petition from the SLO Coast AVA Association, proposing to establish the “San Luis Obispo Coast” AVA. The petition also requested that TTB recognize “SLO Coast” as a name for the proposed AVA, as “SLO” is a frequently-used reference to the county's initials as well as its relaxed culture. For purposes of the remainder of this document, TTB will refer to the proposed AVA as “SLO Coast.” The proposed AVA is located in San Luis Obispo County, California, and lies entirely within the established Central Coast AVA (27 CFR 9.75). If established, the proposed AVA would also entirely encompass the established Edna Valley (27 CFR 9.35) and Arroyo Grande Valley (27 CFR 9.129) AVAs. Within the approximately 480,585-acre proposed AVA, there are over 50 wineries, as well as an estimated 78 commercial vineyards covering approximately 3,942 acres. The distinguishing features of the proposed SLO Coast AVA are its topography, climate, and soils.

The petition describes the proposed SLO Coast AVA as a region of coastal terraces, foothills, and small valleys along the Pacific Coast. The region is oriented to the west, allowing the region to experience marine fog and cool marine air. According to the petition, 97 percent of the proposed AVA is at or below 1,800 feet in elevation, which corresponds to the approximate limit of the influence of the maritime climate. The maritime influence prevents temperatures from rising too high or dropping too low for optimal vineyard conditions.

The proposed SLO Coast AVA's proximity to the Pacific Ocean moderates its temperatures. The average growing degree day accumulation (GDDs) ¹ for the proposed AVA from 1971-2000 was 2,493, which places the proposed AVA in Region I of the Winkler scale.² The minimum growing season temperature for 90 percent of the proposed AVA is between 47.5 and 52 degrees Fahrenheit (F), based on data from 1981-2015. Also based on data from 1981-2015, twenty-one percent of the proposed AVA has an average maximum growing season temperature of less than 70 degrees F, while another 68 percent of the proposed AVA has an average maximum growing season temperature between 70 and 78 degrees F. The petition also states that between 2003 and 2015, the proposed AVA experienced nighttime fog cover between 35 and 55 percent of all nights during the growing season.

¹ According to the petition, GDDs for a particular region are calculated by adding the total mean daily temperatures above 50 degrees Fahrenheit (F) for the days from April 1 through October 31. The formula is based on the concept that most vine shoot growth occurs in temperatures over 50 degrees F.

² See Albert J. Winkler et al., General Viticulture (Berkeley: University of California Press, 2nd. ed. 1974), pages 61-64. In the Winkler scale, the GDD regions are defined as follows: Region I = less than 2,500 GDDs; Region II = 2,501-3,000 GDDs; Region III = 3,001-3,500 GDDs; Region IV = 3,501-4,000 GDDs; Region V = greater than 4,000 GDDs.

According to the petition, the climate of the proposed AVA makes it suitable for growing early-to-mid-season grape varietals such as Chardonnay and Pinot Noir, which compromise 43 and 35 percent, respectively, of the planted vineyard acreage of the proposed AVA. The petition also states that mild average minimum growing season temperatures lead to a shorter period of vine dormancy in the proposed AVA. The lower average maximum growing season temperatures (compared to surrounding regions) reduce the risk of fruit desiccation and produce higher levels of malic acid in the grapes, which increases total acidities and lowers pH values in the resulting wines. The nighttime fog lengthens the growing season by preventing temperatures from dropping significantly at night.

The soils of the proposed SLO Coast AVA can be divided into four groups. The largest group, found in the north and central parts of the proposed AVA, is derived from the Franciscan Formation and is comprised of sandstone, shale, and metamorphosed sedimentary rocks. Examples of soil series in this group include Diablo, San Simeon, Shimmon, Conception, and Santa Lucia series. The second largest group consists of younger marine deposits and basin sediments from the Miocene and Pliocene periods. These soils are comprised of sandy loam and loams derived from marine deposits and include the Pismo, Briones, Tierrs, Gazos, Nacimiento, Linne, Balcom, and Sorrento soil series. These soils provide excellent drainage for vineyards, but may require irrigation during the growing season. The third group is derived from volcanic intrusion and represents a very small percentage of the soils within the proposed AVA. Most soils in this group are found on excessively steep slopes or rocky terrain that is unsuitable for viticulture. The final group is derived from wind deposits and comprises the sand dunes and low areas near the coast. These soils also cover a very small percent of the proposed AVA and are generally unsuitable for viticulture due to their excessive drainage and high sodium content.

West of the proposed AVA is the Pacific Ocean. North of the proposed AVA, elevations rise over 3,000 feet in the steep, rough terrain of the Los Padres National Forest. To the northeast of the proposed AVA, GDD accumulations are higher and the region is classified as a Region II on the Winkler scale. Soils in this region are characterized by rocky outcrops and shallow soils derived from sandstone and metamorphic rock, as well as soils derived from igneous and granitic rocks.

East of the proposed AVA is the eastern side of the Santa Lucia Range, which faces away from the Pacific Ocean and thus experience less marine influence than the proposed AVA. As a result, GDD accumulations are higher, falling within the Region II and III categories on the Winkler scale. Average minimum growing season temperatures are lower, and average maximum growing season temperatures are higher. Fog occurs less than 30 percent of all nights during the growing season. The soils to the east of the proposed AVA consist mainly of alluvial and terrace deposits.

To the south of the proposed AVA is the Santa Maria Valley, which has a much flatter topography. GDD accumulations are higher than within the proposed AVA, and the region is characterized as Region II on the Winkler scale. Because the region has a flatter topography than the proposed SLO Coast AVA, the Santa Maria Valley is more exposed to the marine air. As a result, the Santa Maria Valley has higher average minimum growing season temperatures and lower average maximum growing season temperatures. Fog occurs over 55 percent of all nights during the growing season within the region to the south of the proposed AVA. Soils to the south of the proposed SLO Coast AVA consist of deep, fertile, sandy soils derived from alluvial deposits that contain less clay than the majority of soils within the proposed AVA.

Notice of Proposed Rulemaking and Comments Received

TTB published Notice No. 194 in the Federal Register on October 1, 2020 (85 FR 61899), proposing to establish the SLO Coast AVA. In the notice, TTB summarized the evidence from the petition regarding the name, boundary, and distinguishing features for the proposed AVA. The notice also compared the distinguishing features of the proposed AVA to the surrounding areas. For a detailed description of the evidence relating to the name, boundary, and distinguishing features of the proposed AVA, and for a detailed comparison of the distinguishing features of the proposed AVA to the surrounding areas, see Notice No. 194.

In Notice No. 194, TTB solicited comments on the accuracy of the name, boundary, and other required information submitted in support of the petition. In addition, given the proposed AVA's location within the central Coast AVA, TTB solicited comments on whether the evidence submitted in the petition regarding the distinguishing features of the proposed AVA sufficiently differentiates it from the established AVA. TTB also requested comments on whether the geographic features of the proposed AVA are so distinguishable from the established Central Coast AVA that the proposed AVA should no longer be part of the established AVA. Finally, TTB requested comments on whether the proposed AVA is sufficiently distinguished from the established Edna Valley and Arroyo Grande Valley AVAs that it would encompass, as well as if one or both of the established AVAs are so distinct from the proposed SLO Coast AVA that it should not be included within the proposed AVA. The comment period closed November 30, 2020.

In response to Notice No. 194, TTB received four comments. None of the comments opposed the establishment of the proposed SLO Coast AVA, but three of the comments expressed concerns or questions about the proposed AVA. Two comments inquired as to the economic impact of AVAs. One comment asked if there could “potentially be a negative economic impact on wineries with similar features that are unable to use the SLO name.” A second comment asked if “AVA wines” are “more lucrative and better for the economy” and notes “it would be interesting to study the cost of wines from an AVA versus the cost of wines not from AVAs, but still in the same region.” TTB notes that establishment of an AVA is not a guarantee of economic benefit. Any economic benefit derived from the use of an AVA name on a wine label is a result of the efforts of the proprietor and the acceptance of the consumers of the new AVA. Therefore, TTB is not able to accurately predict the economic benefits any given winery or vineyard may experience as a result of the establishment of an AVA, nor can TTB predict if wineries and vineyards in one AVA will experience greater economic success than wineries and vineyards outside of that AVA. However, any person may petition TTB to establish a new AVA. Alternatively, a person may petition TTB to expand the boundaries of an established AVA to include previously omitted vineyards if they believe the expansion area has the same distinguishing features and name usage as the established AVA.

The second comment also asked if any land in the proposed SLO Coast AVA is not currently within an AVA. TTB notes that all of the land within the proposed SLO Coast AVA is already within the established multi-county Central Coast AVA. Additionally, some of the land is within either the established Edna Valley or Arroyo Grande Valley AVAs.

Additionally, the second comment asked the purpose of overlapping AVAs. TTB notes that a certain set of distinguishing features characterizes any given established AVA. All lands within that AVA are assumed to share those features. However, TTB also recognizes that small variations in soil, climate, and/or topography may exist within any established AVA, particularly large, multi-county AVAs like the Central Coast AVA in which the proposed SLO Coast AVA is located. At the time an AVA was originally established, the available data may have made the region appear largely homogenous, but over time, new data may become available that highlights these small differences. Establishing new AVAs within established AVAs provides formal recognition for these small differences while still acknowledging the broader characteristics these new AVAs share with the established one. For example, the proposed SLO Coast AVA shares the primary climate characteristic of the Central Coast AVA, which is a marine-influenced climate that is distinguishable from the climate of regions farther inland. As a result, vineyards in the proposed SLO Coast AVA and vineyards in the remaining portion of the Central Coast AVA will still have growing conditions that are more similar to each other than they are to the growing conditions in the warmer, drier inland regions east of the Central Coast AVA. However, the proposed SLO Coast AVA, by virtue of its location along the westernmost portion of the Central Coast AVA, receives more marine influence than the more inland regions of the Central Coast AVA. Vineyards in this more coastal region therefore experience slightly different growing conditions than vineyards elsewhere in the Central Coast AVA. Establishing a smaller AVA within the larger AVA also provides vintners with more flexibility in how they may choose to market their wines.

The third comment specifically supported the proposed SLO Coast AVA. However, the comment also suggested that the overlap between the proposed SLO Coast AVA and the Central Coast, Edna Valley, and Arroyo Grande Valley AVAs may cause “the potential for tax discrepancies.” To avoid potential conflict, the comment suggested allowing vintners to vote on which AVA they wish to be located. The comment also recommended setting a timeline for businesses to adjust their business practices to being in a new AVA, noted suggestions for offsetting costs incurred when a winery switches from one AVA to another, and suggested forming a committee consisting of 2 to 3 members from each AVA to “help lead the transition process” from one AVA to another.

TTB notes that the establishment of an AVA simply allows vintners a new way to market their wines and does not involve the creation of new taxes. Wine industry members' Federal excise tax payments are not based on the number of AVAs within which they are located. Additionally, including the Edna Valley and Arroyo Grande Valley AVAs in an established SLO Coast AVA, and including the SLO Coast AVA within the Central Coast AVA, would not force any label holders to make any changes to their business practices or impose on them any additional business costs. The Central Coast, Edna Valley, and Arroyo Grande Valley AVAs' boundaries would remain unchanged, and label holders may continue using “Central Coast,” “Edna Valley,” or “Arroyo Grande Valley” as appellations of origin on their wines. However, they would also have the option of using “San Luis Obispo Coast” or “SLO Coast” as an appellation of origin.

In addition, because AVAs are established by Federal regulations, TTB publishes a notice of proposed rulemaking to inform potentially affected persons of the proposed AVA, similar to how other Federal agencies make known proposed changes to their regulations. The decision to establish the AVA or withdraw the proposal is based on the information included in the AVA petition and any additional relevant information that may be provided during the comment period. In this case, label holders had over a year to prepare for the potential creation of this AVA, as on October 1, 2020 TTB published an NPRM proposing the establishment of the “San Luis Obispo Coast” or “SLO Coast” AVA. Further, affected label holders had until November 30, 2020 to submit comments on the proposed AVA.

TTB also notes that the SLO Coast AVA Association already exists to promote the region and may choose to work with vintners and wineries to promote the region. However, TTB does not have the authority to order such cooperation or to establish any association or advisory group to promote one or more AVAs.

A fourth comment supports establishment of the “San Luis Obispo Coast” or “SLO Coast” AVA. This comment notes distinguishing features within the proposed AVA's boundaries are different from areas outside these boundaries, and that establishing this AVA increases understanding of the diversity within San Luis Obispo County and the Central Coast AVA.

TTB Determination

After careful review of the petition and the comments received in response to Notice No. 194, TTB finds that the evidence provided by the petitioner supports the establishment of the San Luis Obispo Coast (SLO Coast) AVA. Accordingly, under the authority of the FAA Act, section 1111(d) of the Homeland Security Act of 2002, and parts 4 and 9 of the TTB regulations, TTB establishes the “San Luis Obispo Coast” AVA, also known as the “SLO Coast' AVA, in San Luis Obispo County, California, effective 30 days from the publication date of this document.

TTB has also determined that the SLO Coast AVA will remain part of the established Central Coast AVA. As discussed in Notice No. 194, the SLO Coast AVA shares the same marine-influenced climate as the Central Coast AVA. However, due to its smaller size and more coastal location, the SLO Coast AVA experiences more marine influence than the more inland portions of the Central Coast AVA.

Furthermore, TTB has determined that the Edna Valley and Arroyo Grande AVAs will be within the SLO Coast AVA. As discussed in Notice No. 194, the Edna Valley and Arroyo Grande Valley AVA share the marine-influenced climate and clay and loam soils as the SLO Coast AVA. However, the Edna Valley AVA has some unique characteristics, such as a narrower range of elevations than the SLO Coast AVA. The climate of the Edna Valley AVA is also mostly Region II on the Winkler scale with pockets of Region I climate, whereas the SLO Coast AVA is primarily Region I with pockets of Region II climate. The Arroyo Grande Valley AVA also has some characteristics that make it unique. For example, the Arroyo Grande is in a sheltered location within the SLO Coast AVA, which means that it received less direct marine influence that other more open portions of the SLO Coast AVA.

Boundary Description

See the narrative description of the boundary of the SLO Coast AVA in the regulatory text published at the end of this final rule.

Maps

The petitioners provided the required maps, and they are listed below in the regulatory text. The SLO Coast AVA boundary may also be viewed on the AVA Map Explorer on the TTB website, at https://www.ttb.gov/wine/ava-map-explorer.

Impact on Current Wine Labels

Part 4 of the TTB regulations prohibits any label reference on a wine that indicates or implies an origin other than the wine's true place of origin. For a wine to be labeled with an AVA name or with a brand name that includes an AVA name, at least 85 percent of the wine must be derived from grapes grown within the area represented by that name, and the wine must meet the other conditions listed in 27 CFR 4.25(e)(3). If the wine is not eligible for labeling with an AVA name and that name appears in the brand name, then the label is not in compliance and the bottler must change the brand name and obtain approval of a new label. Similarly, if the AVA name appears in another reference on the label in a misleading manner, the bottler would have to obtain approval of a new label. Different rules apply if a wine has a brand name containing an AVA name that was used as a brand name on a label approved before July 7, 1986. See 27 CFR 4.39(i)(2) for details.

With the establishment of the San Luis Obispo Coast AVA, its name, “San Luis Obispo Coast,” as well as the abbreviated “SLO Coast,” will be recognized as a name of viticultural significance under § 4.39(i)(3) of the TTB regulations (27 CFR 4.39(i)(3)). TTB is also designating “San Luis Obispo Coast” and “SLO Coast” as terms of viticultural significance. The text of the regulations clarifies this point. Consequently, wine bottlers using the names “San Luis Obispo Coast” or “SLO Coast” in a brand name, including a trademark, or in another label reference as to the origin of the wine, will have to ensure that the product is eligible to use the AVA name as an appellation of origin.

The establishment of the SLO Coast AVA will not affect the existing Central Coast, Edna Valley, or Arroyo Grande Valley AVAs, and any bottlers using “Central Coast,” “Edna Valley,” or “Arroyo Grande Valley” as an appellation of origin or in a brand name for wines made from grapes grown within those AVAs will not be affected by the establishment of this new AVA. The establishment of the SLO Coast AVA will allow vintners to use “SLO Coast,” “San Luis Obispo Coast,” and “Central Coast” as appellations of origin for wines made primarily from grapes grown within the SLO Coast AVA if the wines meet the eligibility requirements for the appellation. Additionally, vintners may use “SLO Coast” or “San Luis Obispo Coast” as an appellation of origin in addition to or in place of “Edna Valley” or “Arroyo Grande Valley” for wines made primarily from grapes grown in the Edna Valley or Arroyo Grande Valley AVAs if the wines meet the eligibility requirements for either of those two appellations.

Regulatory Flexibility Act

TTB certifies that this regulation will not have a significant economic impact on a substantial number of small entities. The regulation imposes no new reporting, recordkeeping, or other administrative requirement. Any benefit derived from the use of an AVA name would be the result of a proprietor's efforts and consumer acceptance of wines from that area. Therefore, no regulatory flexibility analysis is required.

Executive Order 12866

It has been determined that this final rule is not a significant regulatory action as defined by Executive Order 12866 of September 30, 1993. Therefore, no regulatory assessment is required.

Drafting Information

Karen A. Thornton of the Regulations and Rulings Division drafted this final rule.

List of Subjects in 27 CFR Part 9

Wine.

The Regulatory Amendment

For the reasons discussed in the preamble, TTB amends title 27, chapter I, part 9, Code of Federal Regulations, as follows:

PART 9—AMERICAN VITICULTURAL AREAS

1. The authority citation for part 9 continues to read as follows:

Authority: 27 U.S.C. 205.

Subpart C—Approved American Viticultural Areas

2. Subpart C is amended by adding § 9.282 to read as follows:

§ 9.282 San Luis Obispo Coast.

(a) Name. The name of the viticultural area described in this section is “San Luis Obispo Coast”. “SLO Coast” may also be used as the name of the viticultural area described in this section. For purposes of part 4 of this chapter, “San Luis Obispo Coast” and “SLO Coast” are terms of viticultural significance.

(b) Approved maps. The 24 United States Geological Survey (USGS) 1:24,000 scale topographic maps used to determine the boundary of the San Luis Obispo Coast viticultural area are titled:

(1) Burro Mountain, 1995;

(2) Piedras Blancas, 1959; photoinspected 1976;

(3) San Simeon, 1958; photoinspected 1976;

(4) Pebblestone Shut-In, 1959; photoinspected 1976;

(5) Lime Mountain, 1948; photo revised 1979;

(6) Cypress Mountain, 1979;

(7) York Mountain, 1948; photorevised 1979;

(8) Morro Bay North, 1995;

(9) Atascadero, 1995;

(10) San Luis Obispo, 1968; photorevised 1978;

(11) Morro Bay South, 1965; photorevised 1978;

(12) Lopez Mountain, 1995;

(13) Arroyo Grande NE, 1985;

(14) Tar Spring Ridge, 1995;

(15) Nipomo, 1965;

(16) Huasna Peak, 1995;

(17) Twitchell Dam, 1959; photorevised 1982;

(18) Santa Maria, 1959; photorevised 1982;

(19) Oceano, 1965; revised 1994;

(20) Pismo Beach, 1998;

(21) Port San Luis, 1965; photorevised 1979;

(22) Cayucus, 1965; revised 1994;

(23) Cambria, 1959; photorevised 1979; and

(24) Pico Creek, 1959; photorevised 1979.

(c) Boundary. The San Luis Obispo Coast viticultural area is located in San Luis Obispo County in California. The boundary of the San Luis Obispo Coast viticultural area is as described below:

(1) The beginning point is on the Burro Mountain map at the intersection of the northern boundary of the Piedra Blanca Grant boundary and the Pacific Ocean. From the beginning point, proceed southeast along the grant boundary to its intersection with the western boundary of Section 15, T25S/R6E; then

(2) Proceed northeast in a straight line to a marked 1,462-foot peak in Section 11, T25S/R6E; then

(3) Proceed southeast in a straight line, crossing onto the Piedras Blancas map, to a marked 2,810-foot peak in Section 19, T25S/R7E; then

(4) Proceed southeast in a straight line, crossing onto the San Simeon map, to the 2,397-foot peak of Garrity Peak in the Piedra Blanca Land Grant; then

(5) Proceed east in a straight line to a marked 2,729-foot peak in Section 32, T25S/R8E; then

(6) Proceed southeast in a straight line, crossing onto the Pebblestone Shut-In map, to the 3,432-foot peak of Rocky Butte in Section 24, T26S/R8E; then

(7) Proceed southeast in a straight line to the 2,849-foot peak of Vulture Rock in Section 29, T26S/R9E; then

(8) Proceed southeast in a straight line, crossing over the Lime Mountain map and onto the Cypress Mountain map to the 2,933-foot peak of Cypress Mountain in Section 12, T27S/R9E; then

(9) Proceed southeast in a straight line, crossing onto the York Mountain map, to the intersection of Dover Canyon Road and a jeep trail in Dover Canyon in Section 14, T27S/R10E; then

(10) Proceed southwesterly, then southeasterly along the jeep trail to the point where the jeep trail becomes an unnamed light-duty road, and continuing southeasterly along the road to its intersection Santa Rita Creek in Section 25, T27S/R10E; then

(11) Proceed easterly along Santa Rita Creek to the point where the creek splits into a northern and a southern fork; then

(12) Proceed east in a straight line to Cayucos Templeton Road, then proceed south along Cayucos Templeton Road, crossing onto the Morro Bay North map and continuing along the road as it becomes Santa Rita Road, to the intersection of the road with the northeast boundary of Section 20, T28S/R11E; then

(13) Proceed southeast along the northeast boundary of Section 20 to its intersection with the western boundary of the Los Padres National Forest; then

(14) Proceed south, then southeasterly along the western boundary of the Los Padres National Forest, crossing over the Atascadero map and onto the San Luis Obispo map, to the intersection of the forest boundary with the boundary of the Camp San Luis Obispo National Guard Reservation at the northeastern corner of Section 32, T29S/R12E; then

(15) Proceed south, then generally southwesterly along the boundary of Camp San Luis Obispo National Guard Reservation, crossing onto the Morro Bay South map and then back onto the San Luis Obispo map, and then continuing generally easterly along the military reservation boundary to the intersection of the boundary with a marked 1,321-foot peak along the northern boundary of the Potrero de San Luis Obispo Land Grant; then

(16) Proceed southeast in a straight line, crossing onto the Lopez Mountain map, to the southeastern corner of Section 18, T30S/R13E; then

(17) Proceed southeasterly in a straight line to the southeast corner of Section 29; then

(18) Proceed southeasterly in a straight line to a marked 2,094-foot peak in Section 2, T31S/R13E; then

(19) Proceed southeasterly in a straight line, crossing onto the Arroyo Grande NE map, to the intersection of the 1,800-foot elevation contour and the western boundary of the Los Padres National Forest, along the eastern boundary of Section 12, T31S/R13E; then

(20) Proceed south along the boundary of the Los Padres National Forest to the southeastern corner of Section 13, T31S/R13E; then

(21) Proceed southeast in a straight line to a marked 1,884-foot peak in Section 19, T31S/R14E; then

(22) Proceed southeast in a straight line to northwestern-most corner of the boundary of the Lopez Lake Recreation Area in Section 19, T31S/R14E; then

(23) Proceed south, then generally east along the boundary of the Lopez Lake Recreation Area, crossing onto the Tar Spring Ridge map, to the intersection of the boundary with an unnamed light-duty road known locally as Lopez Drive west of the Lopez Dam spillway in Section 32, T31S/R14E; then

(24) Proceed east along Lopez Drive to its intersection with an unnamed light-duty road known as Hi Mountain Road in Section 34, T31S/R14E; then

(25) Proceed east along Hi Mountain Drive to its intersection with an unnamed light-duty road known locally as Upper Lopez Canyon Road in the Arroyo Grande Land Grant; then

(26) Proceed north along Upper Lopez Canyon Road to its intersection with an unnamed, unimproved road that runs south to Ranchita Ranch; then

(27) Proceed northeast in a straight line to a marked 1,183-foot peak in Section 19, T31S/R15E; then

(28) Proceed southeast in a straight line to a marked 1,022-foot peak in Section 29, T31S/R15E; then

(29) Proceed southwest in a straight line to a marked 1,310-foot peak in Section 30, T31S/R15E; then

(30) Proceed southeast in a straight line to a marked 1,261-foot peak in Section 32, T31S/R15E; then

(31) Proceed southeast in a straight line to a marked 1,436-foot peak in Section 4, T32S/R15E; then

(32) Proceed southwest in a straight line to a marked 1,308-foot peak in the Huasna Land Grant; then

(33) Proceed westerly in a straight line to a marked 1,070-foot peak in Section 1, T32S/R14E; then

(34) Proceed southeast in a straight line to a marked 1,251-foot peak in the Huasna Land Grant; then

(35) Proceed southwest in a straight line to a marked 1,458-foot peak in the Santa Manuela Land Grant; then

(36) Proceed southeast in a straight line to a marked 1,377-foot peak in the Huasna Land Grant; then

(37) Proceed southwest in a straight line, crossing onto the Nipomo map, to a marked 1,593-foot peak in the Santa Manuela Land Grant; then

(38) Proceed southwest in a straight line to the jeep trail immediately north of a marked 1,549-foot peak in Section 35, T32S/R14E; then

(39) Proceed northwesterly along the jeep trail to its intersection with an unnamed, unimproved road in the Santa Manuela Land Grant; then

(40) Proceed south along the unimproved road to its intersection with Upper Los Berros Road No. 2 in Section 33, T32S/R14E; then

(41) Proceed southeast along Upper Los Berros Road No. 2, crossing onto the Huasna Peak map, to the intersection of the road and State Highway 166; then

(42) Proceed south, then westerly along State Highway 166, crossing over the Twitchell Dam, Santa Maria, and Nipomo maps, then back onto the Santa Maria map, to the intersection of State Highway 166 with U.S. Highway 101 in the Nipomo Land Grant; then

(43) Proceed south along U.S. Highway 101 to its intersection with the north bank of the Santa Maria River; then

(44) Proceed west along the north bank of the Santa Maria River to its intersection with the 200-foot elevation contour; then

(45) Proceed generally west along the 200-foot elevation contour, crossing over the Nipomo map and onto the Oceano map, to a point north of where the north-south trending 100-foot elevation contour makes a sharp westerly turn in the Guadalupe Land Grant; then

(46) Proceed due south in a straight line to the 100-foot elevation contour; then

(47) Proceed westerly along the 100-foot elevation contour to its intersection with State Highway 1 in the Guadalupe Land Grant; then

(48) Proceed northwesterly in a straight line to the eastern boundary of the Pismo Dunes State Vehicular Recreation Area at Lettuce Lake in the Bolsa de Chamisal Land Grant; then

(49) Proceed northerly along the eastern boundary of the Pismo Dunes State Vehicular Recreation Area to the point where the boundary makes a sharp westerly turn just west of Black Lake in the Bolsa de Chamisal Land Grant; then

(50) Northerly along the Indefinite Boundary of the Pismo Dunes National Preserve to corner just west of Black Lake in the Bolsa de Chamisal Land Grant; then

(51) Proceed east in a straight line to an unnamed four wheel drive road east of Black Lake in the Bolsa de Chamisal Land Grant; then

(52) Proceed north along the western fork of the four wheel drive road as it meanders to the east of White Lake, Big Twin Lake, and Pipeline Lake, to the point where the road intersects an unnamed creek at the southeastern end of Cienega Valley in the Bolsa de Chamisal Land Grant; then

(53) Proceed northwesterly along the creek to its intersection with an unnamed dirt road known locally as Delta Lane south of the Oceano Airport; then

(54) Proceed northerly along Delta Lane to its intersection with an unnamed light-duty road known locally as Ocean Street; then

(55) Proceed east in a straight line to State Highway 1; then

(56) Proceed northerly on State Highway 1, crossing onto the Pismo Beach map, to the highway's intersection with a light-duty road known locally as Harloe Avenue; then

(57) Proceed west along Harloe Avenue to its intersection with the boundary of Pismo State Beach; then

(58) Proceed northwesterly along the boundary of Pismo State Beach to its intersection with the Pacific Ocean coastline; then

(59) Proceed northerly along the Pacific Ocean coastline, crossing over the Pismo Beach, Port San Luis, Morro Bay South, Morro Bay North, Cayucos, Cambria, Pico Creek, San Simeon, and Piedras Blancas maps and onto the Burro Mountain map, returning to the beginning point.

Signed: March 2, 2022.
Mary G. Ryan,
Administrator.
Approved: March 2, 2022.
Timothy E. Skud,
Deputy Assistant Secretary (Tax, Trade, and Tariff Policy).

[FR Doc. 2022-05000 Filed 3-8-22; 8:45 am]

BILLING CODE 4810-31-P